DEPARTMENT OF TRANSPORTATION

Federal Aviation Administration

14 CFR Part 39

[Docket No. FAA-2014-0173; Directorate Identifier 2013-NM-069-AD; Amendment 39-18083; AD 2015-02-16]

RIN 2120-AA64

Airworthiness Directives; Airbus Airplanes

AGENCY: Federal Aviation Administration (FAA), Department of Transportation (DOT).

ACTION: Final rule.

SUMMARY: We are superseding Airworthiness Directive (AD) 2009-06-06 for all Airbus Model A310 and A300-600 series airplanes. AD 2009-06-06 required revising the Airworthiness Limitations Section of the Instructions for Continued Airworthiness to incorporate new limitations and maintenance tasks for aging systems maintenance. This new AD requires revising the maintenance or inspection program to incorporate new maintenance requirements and airworthiness limitations. This AD was prompted by a determination that more restrictive maintenance requirements and airworthiness limitations are necessary. We are issuing this AD to prevent reduced structural integrity and reduced control of these airplanes due to the failure of system components.

DATES: This AD becomes effective March 6, 2015.

The Director of the Federal Register approved the incorporation by reference of certain publications listed in this AD as of March 6, 2015.

The Director of the Federal Register approved the incorporation by reference of certain other publications listed in this AD as of April 28, 2009 (74 FR 12228, March 24, 2009).

ADDRESSES: You may examine the AD docket on the Internet at http://www.regulations.gov/#!docketDetail;D=FAA-2014-0173; or in person at the Docket Management Facility, U.S. Department of Transportation, Docket Operations, M-30, West Building Ground Floor, Room W12-140, 1200 New Jersey Avenue SE., Washington, DC.

For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to supersede AD 2009-06-06, Amendment 39-15842 (74 FR 12228, March 24, 2009). AD 2009-06-06 applied to all Airbus Model A310 and Airbus Model A300 B4-600, B4-600R, and F4-600R series airplanes, and Model A300 C4-605R Variant F airplanes (collectively called Model A300-600 series airplanes series airplanes. The NPRM published in the Federal Register on March 28, 2014 (79 FR 17451).

The European Aviation Safety Agency (EASA), which is the Technical Agent for the Member States of the European Union, has issued EASA Airworthiness Directive 2013-0075, dated March 20, 2013 (referred to after this as the Mandatory Continuing Airworthiness Information, or “the MCAI”), to correct an unsafe condition for Airbus Model A310-203, -204, -221, -222, -304, -322, -324, and -325 airplanes; Model A300 B4-601, B4-603, B4-620, and B4-622 airplanes; Model A300 B4-605R and B4-622R airplanes; Model A300 F4-605R and F4-622R airplanes; and Model A300 C4-605R Variant F airplanes. The MCAI states:

The airworthiness limitations for Airbus aeroplanes are currently published in Airworthiness Limitations Section (ALS) documents.

The mandatory instructions and airworthiness limitations applicable to the Aging Systems Maintenance (ASM) are specified in Airbus A310 or A300-600 ALS Part 4 documents, which are approved by the European Aviation Safety Agency (EASA). EASA AD 2007-0092 [http://ad.easa.europa.eu/blob/easa_ad_2007_0092.pdf/AD_2007-0092, which corresponds to FAA AD 2009-06-06, Amendment 39-15842 (74 FR 12228, March 24, 2009)] was issued to require compliance to the requirements as specified in these documents.

The revision 02 of Airbus A310 and Airbus A300-600 ALS Part 4 documents introduces more restrictive maintenance requirements and/or airworthiness limitations. Failure to comply with the instructions of ALS Part 4 could result in an unsafe condition.

For the reasons described above, this new AD retains the requirements of EASA AD 2007-0092, which is superseded, and requires the implementation of the new or more restrictive maintenance requirements and/or airworthiness limitations as specified in Airbus A310 ALS Part 4, Revision 02, or Airbus A300-600 ALS Part 4, Revision 02, as applicable to aeroplane type/model.

You may examine the MCAI in the AD docket on the Internet at http://www.regulations.gov/#!documentDetail;D=FAA-2014-0173-0002.

Comments

We gave the public the opportunity to participate in developing this AD. The following presents the comment received on the NPRM (74 FR 12228, March 24, 2009), and the FAA's response to the comment.

Request To Include Variation to Service Information

FedEx asked that Airbus A300-600 Variation 0CVLG120001/C0S, dated August 24, 2012, to Airbus A300-600 ALS Part 4—Ageing Systems Maintenance, Revision 02, dated April 18, 2012, be included with the service information referenced for accomplishing the actions specified in the NPRM (74 FR 12228, March 24, 2009). FedEx stated that this variation provides additional trimmable horizontal stabilizer actuator (THSA) part numbers and is approved by EASA.

We agree with the commenter's request. The referenced variation added some dash numbers that were not previously listed in the Airworthiness Limitation Items (ALI), but all airplanes affected by the NPRM (74 FR 12228, March 24, 2009) have this basic part number. We have revised paragraph (j) of this AD to refer to Airbus A300-600 Variation 0CVLG120001/C0S, dated August 24, 2012, to Airbus A300-600 ALS Part 4—Ageing Systems Maintenance, Revision 02, dated April 18, 2012.

“Contacting the Manufacturer” Paragraph in this AD

Since late 2006, we have included a standard paragraph titled “Airworthy Product” in all MCAI ADs in which the FAA develops an AD based on a foreign authority's AD.

We have become aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, the EASA, or Airbus's EASA Design Organization Approval (DOA).

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

We also have decided not to include a generic reference to either the “delegated agent” or “design approval holder (DAH) with State of Design Authority design organization approval,” but instead we have provided the specific delegation approval granted by the State of Design Authority for the DAH throughout this AD.

Conclusion

We reviewed the relevant data, considered the comment received, and determined that air safety and the public interest require adopting this AD with the changes described previously and minor editorial changes. We have determined that these minor changes:

• Are consistent with the intent that was proposed in the NPRM (79 FR 17451, March 28, 2014) for correcting the unsafe condition; and

• Do not add any additional burden upon the public than was already proposed in the NPRM (79 FR 17451, March 28, 2014).

We also determined that these changes will not increase the economic burden on any operator or increase the scope of this AD.

Related Service Information

Airbus has issued A310 Airworthiness Limitations Section (ALS) Part 4—Ageing Systems Maintenance, Revision 02, dated November 30, 2012; and A300-600 ALS Part 4—Ageing Systems Maintenance, Revision 02, dated April 18, 2012. The service information describes procedures for revising the maintenance or inspection program to incorporate new maintenance requirements and airworthiness limitations. You can find this information at http://www.regulations.gov by searching for and locating Docket No. FAA-2014-0173.

Costs of Compliance

We estimate that this AD affects 156 airplanes of U.S. registry.

The ALS revision required by AD 2009-06-06, Amendment 39-15842 (74 FR 12228, March 24, 2009), and retained in this AD takes about 1 work-hour per product, at an average labor rate of $85 per work-hour. Based on these figures, the estimated cost of the actions that were required by AD 2009-06-06 is $85 per product.

We also estimate that it takes about 1 work-hour per product to comply with the basic requirements of this AD. The average labor rate is $85 per work-hour. Based on these figures, we estimate the cost of this AD on U.S. operators to be $13,260, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0173; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2009-06-06, Amendment 39-15842 (74 FR 12228, March 24, 2009), and adding the following new AD:

2015-02-16 Airbus: Amendment 39-18083. Docket No. FAA-2014-0173; Directorate Identifier 2013-NM-069-AD.

(a) Effective Date

This AD becomes effective March 6, 2015.

(b) Affected ADs

This AD replaces AD 2009-06-06, Amendment 39-15842 (74 FR 12228, March 24, 2009).

(c) Applicability

This AD applies to Airbus Model A310-203, -204, -221, -222, -304, -322, -324, and -325 airplanes; Model A300 B4-601, B4-603, B4-620, and B4-622 airplanes; Model A300 B4-605R and B4-622R airplanes; Model A300 F4-605R and F4-622R airplanes, and Model A300 C4-605R Variant F airplanes; certificated in any category; all manufacturer serial numbers.

(d) Subject

Air Transport Association (ATA) of America Code 27, Flight Controls; Code 32, Landing Gear.

(e) Reason

This AD was prompted by a determination that more restrictive maintenance requirements and airworthiness limitations are necessary. We are issuing this AD to prevent reduced structural integrity and reduced control of these airplanes due to the failure of system components.

(f) Compliance

Comply with this AD within the compliance times specified, unless already done.

(g) Retained Revision of Airworthiness Limitation Section (ALS) To Incorporate Limitations and Maintenance Tasks for Aging Systems Maintenance

This paragraph restates the requirements of paragraph (n) of AD 2009-06-06, Amendment 39-15842 (74 FR 12228, March 24, 2009). Within 3 months after April 28, 2009 (the effective date of AD 2009-06-06), revise the ALS of the Instructions for Continued Airworthiness (ICA) to incorporate Airbus A310 ALS Part 4—Ageing Systems Maintenance, Revision 01, dated December 21, 2006 (for Model A310 series airplanes); or Airbus A300-600 ALS Part 4—Ageing Systems Maintenance, Revision 01, dated December 21, 2006 (for Model A300-600 series airplanes). For all tasks identified in Airbus A310 ALS Part 4—Ageing Systems Maintenance, Revision 01, dated December 21, 2006; and Airbus A300-600 ALS Part 4—Ageing Systems Maintenance, Revision 01, dated December 21, 2006; do the tasks at the later of the times specified in paragraphs (g)(1) and (g)(2) of this AD, as applicable, except as provided by paragraph (h) of this AD. The repetitive inspections must be accomplished thereafter at the interval specified in Airbus A310 ALS Part 4—Ageing Systems Maintenance, Revision 01, dated December 21, 2006; or Airbus A300-600 ALS Part 4—Ageing Systems Maintenance, Revision 01, dated December 21, 2006; as applicable.

(1) At the initial compliance times (thresholds) specified in Airbus A310 ALS Part 4—Ageing Systems Maintenance, Revision 01, dated December 21, 2006; or Airbus A300-600 ALS Part 4—Ageing Systems Maintenance, Revision 01, dated December 21, 2006; as applicable; with the compliance times starting from the later of the times specified in paragraphs (g)(1)(i) and (g)(1)(ii) of this AD.

(i) Since first flight of the airplane.

(ii) Since the applicable part was new or refurbished if the part's life (in flight hours, flight cycles, landings, or calendar time, as applicable) can be conclusively determined.

(2) Within 3 months after doing the revision of the ALS of the ICA required by paragraph (h) of this AD.

Note 1 to paragraph (g) of this AD: For additional guidance on the trimmable horizontal stabilizer actuators (THSA) life limits, refer to Airbus Operators Information Telex (OIT) SE 999.0074/05/BB, dated August 3, 2005.

Note 2 to paragraph (g) of this AD: For additional guidance on the THSA life limits and calculation method for unknown history of parts, refer to Airbus OIT SE 999.0008/07/LB, dated January 16, 2007; and Airbus Service Information Letter 05-008, Revision 01, dated February 21, 2007.

(h) Retained Revision of ALS To Incorporate Certain Other Limitations and Maintenance Tasks for Aging Systems Maintenance

This paragraph restates the requirements of paragraph (o) of AD 2009-06-06, Amendment 39-15842 (74 FR 12228, March 24, 2009), with revised affected airplane language. For airplanes on which any life limitation/maintenance task has been complied with in accordance with the requirements of paragraph (f), (g), (k), (l), or (m) of AD 2009-06-06: The last accomplishment of each limitation/task must be retained as a starting point for the accomplishment of each corresponding limitation/task interval now introduced Airbus A310 ALS Part 4—Ageing Systems Maintenance, Revision 01, dated December 21, 2006; and Airbus A300-600 ALS Part 4—Ageing Systems Maintenance, Revision 01, dated December 21, 2006; as applicable.

(i) Retained No Alternative Inspections/Limitations

This paragraph restates the requirements of paragraph (p) of AD 2009-06-06, Amendment 39-15842 (74 FR 12228, March 24, 2009). Except as provided by paragraph (l) of this AD: After accomplishing the actions specified in paragraphs (g) and (h) of this AD, no alternative inspection, inspection intervals, or limitations may be used, except as required by paragraph (j) of this AD.

(j) New Requirements of This AD: Maintenance/Inspection Program Revision

Within 3 months after the effective date of this AD: Revise the maintenance or inspection program, as applicable, to incorporate Airbus A310 ALS Part 4—Ageing Systems Maintenance, Revision 02, dated November 30, 2012 (for Model A310 series airplanes); or Airbus A300-600 ALS Part 4—Ageing Systems Maintenance, Revision 02, dated April 18, 2012, and Airbus A300-600 Variation 0CVLG120001/C0S, dated August 24, 2012, to Airbus A300-600 ALS Part 4—Ageing Systems Maintenance, Revision 02, dated April 18, 2012 (for Model A300-600 series airplanes). For all limitation/replacement/inspection tasks identified in Airbus A310 ALS Part 4—Ageing Systems Maintenance, Revision 02, dated November 30, 2012; or Airbus A300-600 ALS Part 4—Ageing Systems Maintenance, Revision 02, dated April 18, 2012, and Airbus A300-600 Variation 0CVLG120001/C0S, dated August 24, 2012, to Airbus A300-600 ALS Part 4—Ageing Systems Maintenance, Revision 02, dated April 18, 2012; the initial compliance times for the tasks are at the later of the times specified in paragraphs (j)(1) and (j)(2) of this AD, as applicable. Doing any limitation/replacement/inspection task required by this paragraph terminates the corresponding task required by paragraph (g) of this AD.

(1) At the initial compliance times (thresholds) specified in Airbus A310 ALS Part 4—Ageing Systems Maintenance, Revision 02, dated November 30, 2012; or Airbus A300-600 ALS Part 4—Ageing Systems Maintenance, Revision 02, dated April 18, 2012, and Airbus A300-600 Variation 0CVLG120001/C0S, dated August 24, 2012, to Airbus A300-600 ALS Part 4—Ageing Systems Maintenance, Revision 02, dated April 18, 2012; as applicable; with the compliance times starting from the later of the times specified in paragraphs (j)(1)(i) and (j)(1)(ii) of this AD.

(i) Since first flight of the airplane.

(ii) Since the applicable part was new or refurbished if the part's life (in flight hours, flight cycles, landings, or calendar time, as applicable) can be conclusively determined.

(2) Within 3 months after the effective date of this AD.

(k) New Limitation: No Alternative Actions or Intervals

After accomplishment of the revision required by paragraph (j) of this AD, no alternative actions (e.g., inspections) or intervals, may be used unless the actions or intervals are approved as an alternative method of compliance (AMOC) in accordance with the procedures specified in paragraph (l)(1) of this AD.

(l) Other FAA AD Provisions

The following provisions also apply to this AD:

(1) Alternative Methods of Compliance (AMOCs): The Manager, International Branch, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(m) Related Information

(1) Refer to Mandatory Continuing Airworthiness Information (MCAI) EASA Airworthiness Directive 2013-0075, dated March 20, 2013, for related information. You may examine the MCAI in the AD docket on the Internet at http://www.regulations.gov/#!documentDetail;D=FAA-2014-0173-0002.

(2) Service information identified in this AD that is not incorporated by reference in this AD is available at the addresses specified in paragraphs (n)(5) and (n)(6) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 6, 2015.

(i) Airbus A300-600 ALS Part 4—Ageing Systems Maintenance, Revision 02, dated April 18, 2012.

(ii) Airbus A300-600 Variation 0CVLG120001/C0S, dated August 24, 2012, to Airbus A300-600 ALS Part 4—Ageing Systems Maintenance, Revision 02, dated April 18, 2012.

(iii) Airbus A310 ALS Part 4—Ageing Systems Maintenance, Revision 02, dated November 30, 2012.

(4) The following service information was approved for IBR on April 28, 2009 (74 FR 12228, March 24, 2009).

(i) Airbus A300-600 ALS Part 4—Ageing Systems Maintenance, Revision 01, dated December 21, 2006.

(ii) Airbus A310 ALS Part 4—Ageing Systems Maintenance, Revision 01, dated December 21, 2006.

(5) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on January 13, 2015.
John P. Piccola,
Acting Manager, Transport Airplane Directorate, Aircraft Certification Service.

[FR Doc. 2015-01182 Filed 1-29-15; 8:45 am]

BILLING CODE 4910-13-P